FEDERAL COMMUNICATIONS COMMISSION

47 CFR PART 1

[CC Docket No. 96-238; FCC 01-78]

Procedures To Be Followed When Formal Complaints Are Filed Against Common Carriers

AGENCY: Federal Communications Commission.

ACTION: Final rule; announcement of effective date.

SUMMARY: This document announces the effective date of certain changes in rules and procedures to be followed when formal complaints are filed against common carriers that were adopted in the Order on Reconsideration. The Order on Reconsideration was published in the Federal Register on March 27, 2001.

Dates: The amendments to 47 CFR Part 1 published in at 66 FR 16611 (March 27, 2001) become effective on July 5, 2001.

FOR FURTHER INFORMATION CONTACT: Alexander Starr, Division Chief, Market Disputes Resolution Division, Enforcement Bureau, 418-7330.

SUPPLEMENTARY INFORMATION: In the Order on Reconsideration, released March 7, 2001, the Federal Communications Commission revised its rules for filing formal complaint against common carriers. The Office of Management and Budget (OMB) approved the information collections contained in sections 1.721, 1.722, 1.724, 1.726, 1.735 on June 7, 2001. OMB.Control No.3060-0411.

List of Subjects in 47 CFR Part 1

Communications common carriers, Reporting and recordkeeping requirements, Telecommunications.

Federal Communications Commission.
Magalie Roman Salas,
Secretary.

[FR Doc. 01-16790 Filed 7-3-01; 8:45 am]

BILLING CODE 6712-01-U